NUCLEAR REGULATORY COMMISSION

Office of Nuclear Material Safety and Safeguards Consolidated Decommissioning Guidance: Characterization, Survey, and Determination of Radiological Criteria; Notice of Availability

AGENCY: Nuclear Regulatory Commission.

ACTION: Notice of availability and request for public comment.

SUMMARY: The Nuclear Regulatory Commission's (NRC) Office of Nuclear Material Safety and Safeguards (NMSS) is announcing the availability of a draft document “Consolidated NMSS Decommissioning Guidance: Characterization, Survey, and Determination of Radiological Criteria” (NUREG-1757, Vol. 2), for public comment. This document provides guidance for compliance with the radiological criteria for termination of licenses. The guidance is intended for NRC staff, licensees, and the public. The guidance is being developed in response to the NMSS performance goals, in the NRC's Strategic Plan, of: (1) making NRC activities and decisions more effective, efficient, and realistic; and (2) reducing unnecessary regulatory burden on stakeholders. NRC is seeking public comment in order to receive feedback from the widest range of interested parties and to ensure that all information relevant to developing the document is available to the NRC staff. This draft document is being issued for comment only and is not intended for interim use. The NRC will review public comments received on the draft document. In response to those comments, suggested changes will be incorporated, where appropriate, and a final document will be issued for use.

DATES: Comments on this draft document should be submitted by December 26, 2002. Comments received after that date will be considered to the extent practicable.

ADDRESSES: NUREG-1757, Volume 2, is available for inspection and copying for a fee at the Commission's Public Document Room, U.S. NRC's Headquarters Building, 11555 Rockville Pike (First Floor), Rockville, Maryland. NUREG-1757, Volume 2, is also available electronically from the ADAMS Electronic Reading Room on the NRC Web site at: http://www.nrc.gov/reading-rm/adams.html, and on the NRC Web site at: http://www.nrc.gov/reading-rm/doc-collections/nuregs/staff.

A free single copy of NUREG-1757, Volume 2, will be available to interested parties until the supply is exhausted. Such copies may be requested by writing to the U.S. Nuclear Regulatory Commission, Distribution Services, Washington, DC 20555-0001 or submitting e-mail to distribution@nrc.gov.

Members of the public are invited and encouraged to submit written comments to: Duane W. Schmidt, Project Manager, Office of Nuclear Material Safety and Safeguards, Mail Stop T-7F27, U. S. Nuclear Regulatory Commission, Washington, DC 20555-0001. Hand-deliver comments to: 11555 Rockville Pike, Rockville, MD, between 7:30 a.m. and 4:15 p.m., Federal workdays. Comments may also be sent electronically to decomcomments@nrc.gov. Copies of comments received may be examined at the ADAMS Electronic Reading Room on the NRC web site, and in the NRC Public Document Room, 11555 Rockville Pike, Room O-1F21, Rockville, MD 20852. The NRC Public Document Room is open from 7:45 a.m. to 4:15 p.m., Monday through Friday, except on Federal holidays.

FOR FURTHER INFORMATION, CONTACT: Duane W. Schmidt, Mail Stop T-7F27, U.S. Nuclear Regulatory Commission, Washington, DC 20555-0001. Telephone: (301) 415-6919; Internet: dws2@nrc.gov.

SUPPLEMENTARY INFORMATION: As part of its redesign of the materials license program, NMSS is consolidating and updating numerous decommissioning guidance documents into a three-volume NUREG report. The three volumes are as follows: (1) Decommissioning Process for Materials Licensees; (2) Characterization, Survey, and Determination of Radiological Criteria; and (3) Financial Assurance, Recordkeeping, and Timeliness. Volume 2 of this NUREG series, entitled “Consolidated NMSS Decommissioning Guidance: Characterization, Survey, and Determination of Radiological Criteria,” is the second of these three volumes and, when finalized, is intended for use by applicants, licensees, NRC license reviewers, other NRC personnel, and Agreement State staff.

The approaches to license termination described in Volume 2 of NUREG-1757 will help to identify the information (subject matter and level of detail) needed to terminate a license by considering the wide range of radioactive materials users licensed by NRC. Volume 2 of the NUREG addresses compliance with the radiological criteria for license termination of the License Termination Rule (10 CFR part 20, subpart E) and incorporates the risk-informed and performance-based alternatives of the rule. Volume 2 updates and builds upon the risk-informed approach used in the NMSS Decommissioning Standard Review Plan (NUREG-1727, September 2000), and, in whole or in part, incorporates the parts of NUREG-1727 that provide guidance for demonstrating compliance with Subpart E. This draft Volume 2 describes and makes available to the public (1) methods acceptable to the NRC staff in implementing specific parts of the Commission's regulations; (2) techniques and criteria used by the staff in evaluating decommissioning actions; and (3) guidance to licensees responsible for decommissioning NRC-licensed sites.

When published as a final report, the guidance in draft NUREG-1757, Volume 2, should be used by fuel cycle, fuel storage, materials, and reactor licensees in preparing decommissioning license amendment requests, decommissioning plans, and related compliance documents. Other NRC licensees, e.g., uranium recovery facilities, may find this information useful, but they are not the subject of this NUREG. When finalized, NRC staff will use the policies and procedures discussed in Volume 2 to evaluate a licensee's decommissioning actions. This NUREG will not substitute for regulations, and compliance with it will not be required. Methods and solutions different from those in this NUREG will be acceptable, if they provide a basis for concluding that the decommissioning actions are in compliance with the Commission's regulations.

Further information on the overall decommissioning guidance consolidation and updating project can be found in the Federal Register notice publishing the plan for the project (66 FR 21793).

Commentors are encouraged to submit their written comments to the addresses listed above. To ensure efficient and complete comment resolution, commentors are requested to reference the section, page, and line numbers of the document to which the comment applies, if possible.

Dated at Rockville, MD, this 20th day of September, 2002.
For the Nuclear Regulatory Commission.
Larry W. Camper,
Chief, Decommissioning Branch, Division of Waste Management, Office of Nuclear Material Safety and Safeguards.

[FR Doc. 02-24441 Filed 9-25-02; 8:45 am]

BILLING CODE 7590-01-P